DEPARTMENT OF AGRICULTURE

Forest Service

Availability of Decisions

AGENCY: Forest Service, USDA.

ACTION: Notice. Availability of appealable decisions and decisions subject to the objection process.

SUMMARY: Deciding Officers in the Rocky Mountain Region will publish notice of decisions subject to administrative appeal under 36 CFR parts 215 and 219 in the legal notice section of the newspapers listed in the SUPPLEMENTARY INFORMATION section of this notice. The public shall be advised through Federal Register notice, of the newspaper of record to be utilized for publishing legal notice of decisions. Responsible Officials in the Rocky Mountain Region will also publish notice of proposed actions under 36 CFR 215.5 in the newspapers that are listed in the SUPPLEMENTARY INFORMATION section of this notice. The public shall be advised, through Federal Register notice, of the newspaper of record to be utilized for publishing notices on proposed actions. Additionally, the Deciding Officers in the Rocky Mountain Region will publish notice of the opportunity to object to a proposed authorized hazardous fuel reduction project under 36 CFR 218 or developing, amending or revising land management plans under 36 CFR 219 in the legal notice section of the newspapers listed in the SUPPLEMENTARY INFORMATION section of this notice.

DATES: Use of these newspapers for purposes of publishing legal notice of decisions subject to appeal under 36 CFR parts 215 and 219, notices of proposed actions under 36 CFR part 215, and notices of the opportunity to object under 36 CFR part 218 and 36 CFR part 219 shall begin the first day after the date of this publication.

ADDRESSES: USDA Forest Service, Rocky Mountain Region; Attn: Regional Appeals Manager; 740 Simms Street, Golden, Colorado 80401.

FOR FURTHER INFORMATION CONTACT:

Ken Tu, 303 275-5156.

SUPPLEMENTARY INFORMATION: Deciding Officers in the Rocky Mountain Region will publish notice of decisions subject to administrative appeal under 36 CFR parts 215 and 219 in the legal notice section of the newspapers listed below. The public shall be advised through Federal Register notice, of the newspaper of record to be utilized for publishing legal notice of decisions. Responsible Officials in the Rocky Mountain Region will also publish notice of proposed actions under 36 CFR 215.5 in the newspapers that are listed in the below. The public shall be advised, through Federal Register notice, of the newspaper of record to be utilized for publishing notices on proposed actions. Additionally, the Deciding Officers in the Rocky Mountain Region will publish notice of the opportunity to object to a proposed authorized hazardous fuel reduction project under 36 CFR 218 or developing, amending or revising land management plans under 36 CFR 219 in the legal notice section of the newspapers listed below.

Rocky Mountain Regional Forester Decisions

The Denver Post, published daily in Denver, Denver County, Colorado, for decisions affecting National Forest System lands in the States of Colorado, Nebraska, Kansas, South Dakota, and eastern Wyoming, and for any decision of Region-wide impact. For those Regional Forester decisions affecting a particular unit, the day after notice will also be published in the newspaper specific to that unit.

Arapaho and Roosevelt National Forests and Pawnee National Grassland, Colorado

Forest Supervisor Decisions

The Denver Post, published daily in Denver, Denver County, Colorado.

District Ranger Decisions

Canyon Lakes District: Coloradoan, published daily in Fort Collins, Larimer County, Colorado.

Pawnee District: Greeley Tribune, published daily in Greeley, Weld County, Colorado.

Boulder District: Daily Camera, published daily in Boulder, Boulder County, Colorado.

Clear Creek District: Clear Creek Courant, published weekly in Idaho Springs, Clear Creek County, Colorado.

Sulphur District: Sky High News, published weekly in Grand County, Colorado.

Grand Mesa, Uncompahgre, and Gunnison National Forests, Colorado

Forest Supervisor Decisions

Grand Junction Daily Sentinel, published daily in Grand Junction, Mesa County, Colorado.

District Ranger Decisions

Grand Valley District: Grand Junction Daily Sentinel, published daily in Grand Junction, Mesa County, Colorado.

Paonia District: Delta County Independent, published weekly in Delta, Delta County, Colorado.

Gunnison Districts: Gunnison Country Times, published weekly in Gunnison, Gunnison County, Colorado.

Norwood District: Telluride Daily Planet, published daily in Telluride, San Miguel County, Colorado.

Ouray District: Montrose Daily Press, published daily in Montrose, Montrose County, Colorado.

Pike and San Isabel National Forests and Cimarron and Comanche National Grasslands

Forest Supervisor Decisions

Pueblo Chieftain, published daily in Pueblo, Pueblo County, Colorado.

District Ranger Decisions

San Carlos District: Pueblo Chieftain, published daily in Pueblo, Pueblo County, Colorado.

Comanche District: Plainsman Herald, published weekly in Springfield, Baca County, Colorado. In addition, notice of decisions made by the District Ranger will also be published in the La Junta Tribune Democrat, published daily in La Junta, Otero County, Colorado.

Cimarron District: The Elkhart Tri-State News, published weekly in Elkhart, Morton County, Kansas.

South Platte District: News Press, published weekly in Castle Rock, Douglas County, Colorado.

Leadville District: Herald Democrat, published weekly in Leadville, Lake County, Colorado.

Salida District: The Mountain Mail, published daily in Salida, Chaffee County, Colorado.

South Park District: Fairplay Flume, published weekly in Bailey, Park County, Colorado.

Pikes Peak District: The Gazette, published daily in Colorado Springs, El Paso County, Colorado.

Rio Grande National Forest, Colorado

Forest Supervisor Decisions

Valley Courier, published daily in Alamosa, Alamosa County, Colorado.

District Ranger Decisions

Valley Courier, published daily in Alamosa, Alamosa County, Colorado.

San Juan National Forest, Colorado

Forest Supervisor Decisions

Durango Herald, published daily in Durango, La Plata County, Colorado.

District Ranger Decisions

Durango Herald, published daily in Durango, La Plata County, Colorado.

White River National Forest, Colorado

Forest Supervisor Decisions

The Glenwood Springs Post Independent, published daily in Glenwood Springs, Garfield County, Colorado.

District Ranger Decisions

Aspen-Sopris District: Aspen Times, published daily in Aspen, Pitkin County, Colorado.

Blanco District: Rio Blanco Herald Times, published weekly in Meeker, Rio Blanco County, Colorado.

Dillon District: Summit Daily, published daily in Frisco, Summit County, Colorado.

Eagle-Holy Cross District: Vail Daily, published daily in Vail, Eagle County, Colorado.

Rifle District: Citizen Telegram, published weekly in Rifle, Garfield County, Colorado.

Nebraska National Forest, Nebraska and South Dakota

Forest Supervisor Decisions

The Rapid City Journal, published daily in Rapid City, Pennington County, South Dakota for decisions affecting National Forest System lands in the State of South Dakota.

The Omaha World Herald, published daily in Omaha, Douglas County, Nebraska for decisions affecting National Forest System lands in the State of Nebraska.

District Ranger Decisions

Bessey District/Charles E. Bessey Tree Nursery: The North Platte Telegraph, published daily in North Platte, Lincoln County, Nebraska.

Pine Ridge District: The Chadron Record, published weekly in Chadron, Dawes County, Nebraska.

Samuel R. McKelvie National Forest: The Valentine Midland News, published weekly in Valentine, Cherry County, Nebraska.

Fall River and Wall Districts, Buffalo Gap National Grassland: The Rapid City Journal, published daily in Rapid City, Pennington County, South Dakota.

Fort Pierre National Grassland: The Capital Journal, published Monday through Friday in Pierre, Hughes County, South Dakota.

Black Hills National Forest, South Dakota and Eastern Wyoming

Forest Supervisor Decisions

The Rapid City Journal, published daily in Rapid City, Pennington County, South Dakota.

District Ranger Decisions

The Rapid City Journal, published daily in Rapid City, Pennington County, South Dakota.

Bighorn National Forest, Wyoming

Forest Supervisor Decisions

Casper Star-Tribune, published daily in Casper, Natrona County, Wyoming.

District Ranger Decisions

Casper Star-Tribune, published daily in Casper, Natrona County, Wyoming.

Medicine Bow-Routt National Forests and Thunder Basin National Grassland, Colorado and Wyoming

Forest Supervisor Decisions

Laramie Daily Boomerang, published daily in Laramie, Albany County, Wyoming.

District Ranger Decisions

Laramie District: Laramie Daily Boomerang, published daily in Laramie, Albany County, Wyoming.

Douglas District: Casper Star-Tribune, published daily in Casper, Natrona County, Wyoming.

Brush Creek—Hayden District: Rawlins Daily Times, published daily in Rawlins, Carbon County, Wyoming.

Hahns Peak-Bears Ears District: Steamboat Pilot, published weekly in Steamboat Springs, Routt County, Colorado.

Yampa District: Steamboat Pilot, published weekly in Steamboat Springs, Routt County, Colorado.

Parks District: Jackson County Star, published weekly in Walden, Jackson County, Colorado.

Shoshone National Forest, Wyoming

Forest Supervisor Decisions

Cody Enterprise, published twice weekly in Cody, Park County, Wyoming.

District Ranger Decisions

Clarks Fork District: Powell Tribune, published twice weekly in Powell, Park County, Wyoming.

Wapiti and Greybull Districts: Cody Enterprise, published twice weekly in Cody, Park County, Wyoming.

Wind River District: The Dubois Frontier, published weekly in Dubois, Fremont County, Wyoming.

Washakie District: Lander Journal, published twice weekly in Lander, Fremont County, Wyoming.

Dated: August 18, 2011.
Randall Karstaedt,
Acting Deputy Regional Forester, Resources, Rocky Mountain Region.

[FR Doc. 2011-21611 Filed 8-23-11; 8:45 am]

BILLING CODE 3410-11-P